NATIONAL AERONAUTICS AND SPACE ADMINISTRATION

[Notice: (19-080)]

Extension of Comment Period for Draft Supplemental Environmental Impact Statement (SEIS) for Soil Cleanup Activities at the Santa Susana Field Laboratory (SSFL)

AGENCY: National Aeronautics and Space Administration (NASA).

ACTION: Thirty (30) day comment period extension for the SSFL SEIS.

SUMMARY: Notice of Availability (NOA) of the Draft Supplemental Environmental Impact Statement (SEIS) for Soil Cleanup Activities at the Santa Susana Field Laboratory (SSFL) was published in the Federal Register by the U.S. Environmental Protection Agency (EPA) on October 25, 2019, (Document Number 2019-23364, pages 57490-57491). The forty-five (45) day comment period is extended for thirty (30) days.

DATES: Interested parties are encouraged to submit comments on environmental issues and concerns related to the Draft SEIS, via email or traditional mail, on or before January 8, 2020. This is a thirty (30) calendar day extension from the original public comment end date.

ADDRESSES: Comments may be submitted via email to msfc-ssfl-eis@mail.nasa.gov or by mail to Peter Zorba, SSFL Project Director, 5800 Woolsey Canyon Road, Canoga, Park, CA 91304.

SUPPLEMENTARY INFORMATION: The Draft SEIS is available electronically for public review and comment at https://www.nasa.gov/feature/environmental-impact-statement-eis-for-demolition-and-environmental-cleanup-activities and at the following public libraries.

1. Simi Valley Library, 2969 Tapo Canyon Road, Simi Valley, CA 93063, Phone: (805) 526-1735.

2. Platt Library, 23600 Victory Blvd., Woodland Hills, CA 91367, Phone: (818) 340-9386.

3. California State University, Northridge Oviatt Library, 18111 Nordhoff Street, 2nd Floor, Room 265, Northridge, CA 91330, Phone: (818) 677-2285.

4. Department of Toxic Substances Control, 9211 Oakdale Avenue, Chatsworth, CA 91311, Phone: (818) 717-6521.

Calvin F. Williams,
Assistant Administrator for Office of Strategic Infrastructure.

[FR Doc. 2019-26398 Filed 12-6-19; 8:45 am]

BILLING CODE 7510-13-P